AGENCY FOR INTERNATIONAL DEVELOPMENT

Senior Executive Service: Membership of Performance Review Board

ACTION: Notice.

SUMMARY: This notice lists approved candidates who will comprise a standing roster for service on the Agency's 2010 and 2011 SES Performance Review Boards. The Agency will use this roster to select SES board members, and an outside member for the convening SES Performance Review Board each year. The standing roster is as follows: Brause, Jon; Carroll, Sean; Chan, Carol; Crumbly, Angelique; Eugenia, Mercedes; Foley, Jason; Gomer, Lisa; Grigsby, Carol; Haiman, Arnold; Horton, Jerry; Lowe, Roberta; Luten, Drew; McNerney, Angela; O'Neill, Maura; Ostermeyer, David; Painter, James; Pascocello, Susan; Pendarvis, Jessalyn; Peters, James; Streufert, Randy; Vera, Mauricio; Warren, Wade; Wells, Barry; Wiggins, Sandra; Robinson, John, Outside SES Member.

FOR FURTHER INFORMATION CONTACT: Melissa Jackson, 202-712-1781.

Dated: October 25, 2010.
Michelle Batie,
Division Chief, Civil Service Personnel Division.

[FR Doc. 2010-28344 Filed 11-9-10; 8:45 am]

BILLING CODE 6116-01-P